DEPARTMENT OF ENERGY

Federal Energy Regulatory Commission

[Project No. 15317-000]

Littoral Power Systems, Inc.; Notice of Preliminary Permit Application Accepted for Filing and Soliciting Comments, Motions To Intervene, and Competing Applications

On June 28, 2023, Littoral Power Systems, Inc. filed an application for a preliminary permit, pursuant to section 4(f) of the Federal Power Act (FPA), proposing to study the feasibility of the Upper Cook Inlet Tidal Energy Project to be located in Cook Inlet, Alaska approximately 17 miles north-northwest of Kenai, Alaska and 9.5 miles northwest of Nikiski, Alaska. The sole purpose of a preliminary permit is to grant the permit holder priority to file a license application during the permit term. A preliminary permit does not authorize the permit holder to perform any land-disturbing activities or otherwise enter upon lands or waters owned by others without the owners' express permission.

The project would consist of axial hydrokinetic turbines installed underwater at or proximate to one or more of four existing decommissioned natural gas drilling platforms (Baker, Shell-A, Shell-C, and Dillon) located within the Upper Cook Inlet. The drilling platforms, which are owned and operated by Hilcorp Alaska, LLC, would be the prime anchoring structures for the hydrokinetic equipment that would convert the energy of Cook Inlet's tidal currents into electrical power. The electrical energy would be transmitted via a new 25kV submarine cable to an existing onshore substation (the Bernice Lake substation owned by the Homer Electric Association, Inc.) located about 1.5 miles east-northeast of the East Foreland Lighthouse on the Kenai Peninsula. The length of the subsea cable from the drilling platforms to land would be between 3.5 and 5 miles, depending on the selected route, and the length of the land transmission line to the substation would be between 2 and 3 miles. Each hydrokinetic turbine would have a generating capacity of 1 megawatt (MW). The project would produce from 5,000 to 6,000 megawatt-hours (MWh) per year initially.

Applicant Contact: Mr. David Duquette, CEO, Littoral Power Systems, Inc., 5 Dover Street, Suite 102, New Bedford, MA 02740; Phone: (508) 436-4100.

FERC Contact: David Froehlich; email; david.froehlich@ferc.gov; phone (202) 502-6769.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters without prior registration using the eComment system at http://www.ferc.gov/docs-filing/ecomment.asp. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15310-000.

More information about this project, including a copy of the application, can be viewed or printed on the “eLibrary” link of the Commission's website at http://www.ferc.gov/docs-filing/elibrary.asp. Enter the docket number (P-15317) in the docket number field to access a document. For assistance, do not hesitate to get in touch with FERC Online Support.

Dated: September 5, 2023.
Kimberly D. Bose,
Secretary.

[FR Doc. 2023-19568 Filed 9-11-23; 8:45 am]

BILLING CODE 6717-01-P